DEPARTMENT OF HOMELAND SECURITY

Bureau of Customs and Border Protection

Submission for OMB Emergency Review; Comment Request

AGENCY: Bureau of Customs and Border Protection, Department of Homeland Security.

ACTION: Information collection request; comments solicited.

SUMMARY: The Department of Homeland Security has submitted the following information collection request (ICR), utilizing emergency review procedures, to the Office of Management and Budget (OMB) for review and clearance in accordance with the Paperwork Reduction Act of 1995 (Pub. L. 104-13, 44 U.S.C. Chapter 35). OMB approval has been requested by August 5, 2003. A copy of this ICR, with applicable supporting documentation, may be obtained by calling the Agency Clearance Officer at the Bureau of Customs and Border Protection, Room 3.2.C, 1300 Pennsylvania Avenue NW., Washington, DC 20229, Tel. (202) 927-1429. Comments and questions about the ICR listed below should be forwarded to the Office of Information and Regulatory Affairs, Attn: OMB Desk Officer for the Bureau of Customs and Border Protection, Office of Management and Budget, Room 10235, Washington, DC 20503 .

SUPPLEMENTARY INFORMATION: The Office of Management and Budget is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarify of the information to be collected; and

• Minimize the burden of the collection of information on those who are to respond, including through the use of appropriate automated, electronic, mechanical, or other technological collection techniques or other forms of information technology, e.g., permitting electronic submissions of responses.

Agency: Bureau of Customs and Border Protection.

Title: Application—Alternative Inspection Services/FAST Commercial Driver Application.

OMB Number: 1653-0010.

Type of Review: Emergency Revision.

Affected Public: Commercial Truck Drivers.

Number of Respondents: 25,000.

Estimated Time Per Respondent: 30 minutes.

Total Burden Hours: 12,500.

Total Burden Cost: $750,000.

Description: A new form has been developed for commercial truck drivers, known as the FAST Commercial Driver Application—Mexico, CBP 823F. FAST is a clearance process for known low risk shipments. This program seeks to expedite clearance of low risk trans-border shipments by reducing CBP information requirements, and by dedicating lanes at major crossing points to FAST participants. It is an expansion of the Free and Secure Trade Initiative to the U.S. southern border. FAST membership will help companies satisfy the security requirements of their customers and service providers. This program has been operating on the northern border using a Canadian/U.S. form, administered and collected by the Canadian Government.

Dated: July 22, 2003.
Tracey Denning,
Agency Clearance Officer, Information Services Branch.

[FR Doc. 03-19797 Filed 8-4-03; 8:45 am]

BILLING CODE 4820-02-P